DEPARTMENT OF AGRICULTURE

Forest Service

Prince of Wales Resource Advisory Committee

AGENCY: Forest Service, USDA.

ACTION: Cancellation of meeting.

SUMMARY: The Prince of Wales Resource Advisory Committee cancelled the Resource Advisory Committee meeting to be held on September 28, 2012. The purpose of this meeting was to discuss potential projects under the Secure Rural Schools and Community Self-Determination Act of 2008.

FOR FURTHER INFORMATION CONTACT: Rebecca Sakraida, RAC Coordinator Craig Ranger District, Tongass National Forest, (907) 826-1601 or rsakraida@fs.fed.us.

Maeve L. Taylor,
District Ranger.

[FR Doc. 2012-27453 Filed 11-9-12; 8:45 am]

BILLING CODE 3410-11-P